ENVIRONMENTAL PROTECTION AGENCY

[EPA-HQ-OAR-2009-0234; FRL-8925-7]

Agency Information Collection Activities: Proposed Collection; Comment Request; Information Request for National Emission Standards for Coal- and Oil-fired Electric Utility Steam Generating Units; EPA ICR No. 2362.01

AGENCY: Environmental Protection Agency (EPA).

ACTION: Notice.

SUMMARY: In compliance with the Paperwork Reduction Act (PRA) (44 U.S.C. 3501 et seq.), this action announces that EPA is planning to submit a request for a new Information Collection Request (ICR) to the Office of Management and Budget (OMB). Before submitting the ICR to OMB for review and approval, EPA is soliciting comments on the proposed information collection as described below.

DATES: Comments must be submitted on or before August 31, 2009.

ADDRESSES: Submit your comments, identified by Docket ID No. EPA-HQ-OAR-2009-0234, by one of the following methods:

• www.regulations.gov: Follow the on-line instructions for submitting comments.

• E-mail: a-and-r-docket@epa.gov.

• Fax: (202) 566-1741.

• Mail: Air and Radiation Docket and Information Center, Environmental Protection Agency, Mailcode: 22821T, 1200 Pennsylvania Ave., NW., Washington, DC 20460.

• Hand Delivery: Air and Radiation Docket and Information Center, U.S. EPA, Room 3334, EPA West Building, 1301 Constitution Avenue, NW., Washington, DC. Such deliveries are only accepted during the Docket's normal hours of operation, and special arrangements should be made for deliveries of boxed information.

Instructions: Direct your comments to Docket ID No. EPA-HQ-OAR-2009-0234. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: William Maxwell, Energy Strategies Group, Sector Policies and Program Division, (D243-01), Environmental Protection Agency, Research Triangle Park, North Carolina 27711; telephone number: (919) 541-5430; fax number: (919) 541-5450; e-mail address: maxwell.bill@epa.gov.

SUPPLEMENTARY INFORMATION:

How Can I Access the Docket and/or Submit Comments?

EPA has established a public docket for this ICR under Docket ID No. EPA-HQ-OAR-2009-0234, which is available for online viewing at www.regulations.gov, or in-person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use www.regulations.gov to obtain a copy of the draft collection of information, submit or view public comments, access the index listing of the contents of the docket, and to access those documents in the public docket that are available electronically. Once in the system, select “search,” then key in the docket ID number identified in this document.

What Information Is EPA Particularly Interested in?

Pursuant to PRA section 3506(c)(2)(A), EPA specifically solicits comments and information to enable it to:

(i) Ealuate whether the proposed collection of information is necessary for the proper performance of the functions of the Agency, including whether the information will have practical utility;

(ii) Evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology (e.g., permitting electronic submission of responses).

What Should I Consider When I Prepare My Comments for EPA?

You may find the following suggestions helpful for preparing your comments.

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are coal- and oil-fired electric utility steam generating units that emit hazardous air pollutants (HAP). Hazardous air pollutant means any pollutant listed pursuant to Clean Air Act (CAA) section 112(b). CAA section 112(a)(8) defines an electric utility steam generating unit as

* * * any fossil fuel-fired combustion unit of more than 25 megawatts that serves a generator that produces electricity for sale. A unit that cogenerates steam and electricity and supplies more than one-third of its potential electric output capacity and more than 25 MWe output to any utility power distribution system for sale is also considered a utility unit.

Title: Information Collection Effort for Coal- and Oil-fired Electric Utility Steam Generating Units.

ICR numbers: EPA ICR No. 2362.01.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: To obtain the information necessary to identify and categorize all coal- and oil-fired electric utility steam generating units potentially affected by the CAA section 112(d) standard, this ICR will solicit information from all potentially affected units under authority of CAA section 114. EPA intends to provide the survey in electronic format; however, written responses will also be accepted. The survey will be submitted to all facilities identified as being coal- or oil-fired electric utility steam generating units through databases available to the Agency. EPA envisions allowing recipients 3 months to respond to the survey. To further define the emission level being achieved by average of the top performing 12 percent of similar sources for the existing population, this ICR requires that certain units conduct emission testing concurrent with the survey. EPA envisions allowing recipients 6 months to respond to the emission testing requirement.

EPA estimates the cost of the information collection will be 100,370 hours and $104,807,458.

On December 20, 2000 (65 FR 79825, 79831), EPA added coal- and oil-fired electric utility steam generating units to the list of source categories under section 112(c). The CAA requires EPA to establish National Emission Standards for Hazardous Air Pollutants (NESHAP) for the control of HAP from both existing and new coal- and oil-fired electric utility steam generating units. Section 112(d) provides that for major sources, EPA must establish emission standards that reflect the maximum degree of reduction in emissions of HAP that is achievable, taking into consideration the cost of achieving the emission reduction, any non-air quality health and environmental impacts, and energy requirements. This level of control is commonly referred to as the “maximum achievable control technology” (MACT). The minimum level of emission reduction that the MACT standards must achieve is known as the “MACT floor,” as defined under CAA section 112(d)(3). The MACT floor for existing sources is the emission limitation achieved by the average of the best-performing 12 percent of existing sources in the category or subcategory. For new sources, the MACT floor cannot be less stringent than the emission control achieved in practice by the best-controlled similar source. For major sources, CAA section 112(d) also requires EPA to consider whether more stringent limits—known as beyond the floor standards—are achievable after taking into consideration the cost of achieving such emission reduction, any non-air health and environmental impacts, and energy impacts.

The Agency acquired unit-specific data and data on mercury from coal-fired units in an ICR approved on November 13, 1998 (OMB Control No. 2060-0396). These data were gathered in advance of the December 20, 2000 regulatory finding. These data sources are now over 10 years old and addressed only coal-fired electric utility steam generating units and only mercury emissions from such units. The Agency is aware that significant changes have been made in the intervening years in the number of operating coal- and oil-fired units, in industry ownership practices, and in emission control configurations. Further, in light of the statutory requirements for establishing emission standards under section 112(d) and the recent case law interpreting those requirements, the Agency believes that it needs additional data from both coal- and oil-fired electric utility steam generating units. We believe that obtaining updated information will be crucial to informing our decision on the NESHAP for coal- and oil-fired electric utility steam generating units.

The information in this ICR will be collected under authority of CAA section 114. CAA section 114(a) states, in pertinent part:

For the purpose * * * (i) of * * * developing * * * any emission standard under section 7412 of this title * * * or (iii) carrying out any provision of this Chapter * * * (1) the Administrator may require any person who owns or operates any emission source * * * who the Administrator believes may have information necessary for the purposes set forth in this subsection * * * on a one-time, periodic or continuous basis to- * * * (B) make such reports * * *; (E) keep records on control equipment parameters, production variables or other indirect data when direct monitoring of emissions is impractical * * *, and (G) provide such other information as the Administrator may reasonably require * * *

The data collected will be used to confirm the population of potentially affected coal- and oil-fired electric utility steam generating units, and update existing emission test data and fuel analysis information. These data will be used by the Agency to develop the NESHAP for coal- and oil-fired electric utility steam generating units under CAA section 112(d). Specifically, the data will provide the Agency with updated information on the number of potentially affected units, and available emission test data and fuel analysis data to address variability. All data collected will be added to existing emission test databases for coal- and oil-fired electric utility steam generating units; it will also be used to further evaluate the HAP emissions from these sources.

This collection of information is mandatory under CAA section 114 (42 U.S.C. 7414). All information submitted to EPA pursuant to this ICR for which a claim of confidentiality is made is safeguarded according to Agency policies in 40 CFR part 2, subpart B. An agency may not conduct or sponsor, and a person is not required to respond to, a collection of information unless it displays a currently valid OMB control number. OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the methodology and assumptions used;

(iii) Enhance the quality, utility, and clarity of the information to be collected; and

(iv) Minimize the burden of the collection of information on those who are to respond, including through the use of appropriate automated electronic, mechanical, or other technological collection techniques or other forms of information technology (e.g., permitting electronic submission of responses).

Burden Statement: The projected cost and hour burden for this one-time collection of information is $104,807,458 and 100,370 hours. This burden is based on an estimated 555 facilities (1,325 units) being respondents to the survey and required emission testing. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here.

Estimated total number of potential respondents: 555 facilities (1,325 units).

Frequency of response: One time.

Estimated total average number of responses for each respondent: 1.

Estimated total annual burden hours: 100,370.

Estimated total annual burden costs: $104,807,458.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: June 26, 2009.
Mary E. Henigin,
Acting Director, Sector Policies and Programs Division.

[FR Doc. E9-15686 Filed 7-1-09; 8:45 am]

BILLING CODE 6560-50-P